DEPARTMENT OF HOUSING AND URBAN DEVELOPMENT

[Docket No. FR-5415-N-26C]

Notice of Technical Correction to the Notice of Funding Availability (NOFA) for the Department of Housing and Urban Development's (HUD) Fiscal Year (FY) 2010 Fair Housing Initiatives Program (FHIP) Enforcement Testing Technical Assistance (TA) Program

AGENCY: Office of Fair Housing and Equal Opportunity, HUD.

ACTION: Notice of Technical Correction to the Notice of Funding Availability (NOFA) for HUD's Fiscal Year (FY) 2010 Fair Housing Initiatives Program (FHIP) Enforcement Testing Technical Assistance (TA) Program.

SUMMARY: On April 14, 2011, HUD posted the Notice of Funding Availability (NOFA) for the Fiscal Year (FY) 2010 Fair Housing Initiatives Program (FHIP) Enforcement Testing Technical Assistance (TA) Program to Grants.gov. The NOFA announced the availability of information on applicant eligibility, submission deadlines, funding criteria, and other program and application requirements.

The purpose of the program is to provide technical assistance to one or more entities to develop a course on Fair Housing Testing, and to conduct technical assistance to promote a greater and more consistent use of Testing Methodologies among FHIP organizations. Testing represents the most effective investigative tool in uncovering and corroborating claims of unlawful discrimination. Improving the quality and consistency of testing used by FHIP organizations will increase the persuasiveness and acceptance of tests in litigation. This is designed to provide FHIP organizations with the necessary tools to conduct, understand, and analyze testing with the stated goal of contributing to the Department's enforcement efforts.

The notice providing information regarding the application process, funding criteria and eligibility requirements, application and instructions can be found using the Department of Housing and Urban Development agency link on the Grants.gov/Find Web site at http://www.grants.gov/search/agency.do. A link to the funding opportunity is also available on the HUD Web site at http://portal.hud.gov/hudportal/HUD?src=/program_offices/administration/grants/fundsavail. The link from the funds available page will take you to the agency link on Grants.gov.

The Catalogue of Federal Domestic Assistance (CFDA) number for the Lead Hazard Reduction Demonstration program is 14.900. The Catalogue of Federal Domestic Assistance (CFDA) number for the Lead Hazard Reduction Demonstration program is 14.905. Applications must be submitted electronically through Grants.gov.

FOR FURTHER INFORMATION CONTACT: Questions regarding specific program requirements should be directed to the agency contact identified in the program NOFA. Program staff will not be available to provide guidance on how to prepare the application. Questions regarding the 2011 General Section should be directed to the Office of Grants Management and Oversight at (202) 708-0667 or the NOFA Information Center at 800-HUD-8929 (toll free). Persons with hearing or speech impairments may access these numbers via TTY by calling the Federal Information Relay Service at 800-877-8339.

Dated: May 6, 2011.
Barbara S. Dorf,
Director, Office of Departmental Grants Management and Oversight, Office of the Chief of the Human Capital Officer.

[FR Doc. 2011-11671 Filed 5-11-11; 8:45 am]

BILLING CODE 4210-67-P